FEDERAL RESERVE SYSTEM

Change in Bank Control Notices; Acquisitions of Shares of Bank or Bank Holding Companies; Correction

This notice corrects two notices (FR Doc. 05-4663) published on pages 11980-11981 of the issue for Thursday, March 10, 2005.

Under the Federal Reserve Bank of Atlanta heading, the entry for Douglas Williams and Zella Irene Williams, both of Portland, Tennessee, is revised to read as follows:

A. Federal Reserve Bank of Atlanta (Andre Anderson, Vice President) 1000 Peachtree Street, N.E., Atlanta, Georgia 30303:

1. Douglas Williams and Zella Irene Williams, both of Portland, Tennessee; to acquire additional voting shares of First Farmers Bancshares, Inc., Portland, Tennessee, and thereby indirectly acquire additional voting shares of The Farmers Bank, Portland, Tennessee.

Comments on this application must be received by March 24, 2005.

In addition, under the Federal Reserve Bank of Chicago heading, the entry for Everett D. Lawrence, Marshall, Illinois, Lawrence Gravel, Phyllis Lawrence, and Kim Schmidt, is revised to read as follows:

B. Federal Reserve Bank of Chicago (Patrick M. Wilder, Assistant Vice President) 230 South LaSalle Street, Chicago, Illinois 60690-1414:

1. Everett D. Lawrence, Marshall, Illinois, Lawrence Gravel, Phyllis Lawrence, and Kim Schmidt, acting in concert to retain voting shares of Preferred Bancorp, Inc. Casey, Illinois, and thereby indirectly retain voting shares of Preferred Bank, Casey, Illinois.

Comments on this application must be received by March 24, 2005.

Board of Governors of the Federal Reserve System, March 16, 2005.
Robert deV. Frierson,
Deputy Secretary of the Board.

[FR Doc. 05-5560 Filed 3-21-05; 8:45 am]

BILLING CODE 6210-01-S